DEPARTMENT OF ENERGY

Federal Energy Regulatory Commission

[Docket No. EL02-23-006, et al.]

Consolidated Edison Company of New York Inc., et al.; Electric Rate and Corporate Filings

February 24, 2005.

The following filings have been made with the Commission. The filings are listed in ascending order within each docket classification.

1. Consolidated Edison Company of New York Inc.

[Docket No. EL02-23-006]

Take notice that on February 18, 2005, the New York Independent System Operator, Inc., PJM Interconnection, L.L.C. and Public Service Electric and Gas Company (Filing Parties) submitted a joint compliance filing pursuant to the Commission's August 2, 2004, Opinion No. 476 in Docket No. EL02-23-000 and the Presiding Administrative Law Judge's January 24, 2005, Order Establishing Procedures, in Docket No. El02-23-003.

The Filing Parties state that copies of the filing were served on the parties on the official service list in Docket No. EL02-23-000, the New York State Public Service Commission, and all utility regulatory commissions in the PJM region.

Comment Date: 5 p.m. eastern time on March 11, 2005.

2. California Independent System Operator System, Pacific Gas and Electric Company, San Diego Gas and Electric Company, Southern California Edison Company

[Docket Nos. ER04-445-007, ER04-435-009, ER04-441-006, ER04-443-006]

Take notice that on February 18, 2005, the California Independent System Operator Corporation, Pacific Gas and Electric Company, San Diego Gas and Electric Company, and Southern California Edison Company (collectively the Filing Parties) jointly submitted for filing a Standard Large Generator Interconnection Agreement in compliance with Order No. 2003-B, 109 FERC ¶ 61,287 (2004). The Filing Parties state that the Standard Large Generator Interconnection Agreement is intended to function as a stand alone pro forma agreement and is not intended to be incorporated into the tariffs of any of the Filing Parities.

Comment Date: 5 p.m. eastern time on March 11, 2005.

3. California Independent System Operator Corporation

[Docket No. ER04-445-008]

Take notice that on February 18, 2005, the California Independent System Operator Corporation (ISO), pursuant to Order No. 2003-B, 109 FERC ¶ 61,287 (2004) submitted for filing Standard Large Generator Interconnection Procedures for incorporation into the ISO Tariff.

Comment Date: 5 p.m. eastern time on March 11, 2005.

4. PPL Electric Utilities Corporation

[Docket No. ER05-104-001]

Take notice that on February 18, 2005, PPL Electric Utilities Corporation (PPL Electric) submitted a response to the Commission's deficiency letter issued on December 22, 2004, regarding PPL Electric's October 29, 2004, filing of A Second Revised Service Agreement between PPL Electric and Metropolitan Edison Company.

PPL states that copies of the filing were served upon parties on the official service list.

Comment Date: 5 p.m. eastern time on March 11, 2005.

5. Mirant Delta, LLC and Mirant Potrero, LLC

[Docket No. ER05-343-002]

Take notice that, on February 18, 2005, Mirant Delta, LLC and Mirant Potrero, LLC (Mirant) submitted revised tariff sheets in compliance with the Commission's Order in Mirant Delta, LLC and Mirant Potrero, LLC, 110 FERC ¶ 61,136 (2005) in Docket Nos. ER05-343-000 and ER05-343-001.

Mirant states that copies of the filing were served on parties on the official service list in the above-captioned proceeding.

Comment Date: 5 p.m. eastern time on March 11, 2005.

6. Northeast Utilities Service Company

[Docket No. ER05-385-001]

Take notice that on February 18, 2005, Northeast Utilities Service Company (NUSCO), on behalf of The Connecticut Light and Power Company, Western Massachusetts Electric Company, Holyoke Water Power Company and Public Service Company of New Hampshire, submitted a revised Notice of Cancellation of the rate schedules for sales of electricity to the Town of Danvers Electric Division, Littleton Electric Light Department, Mansfield Municipal Electric Department, and UNITIL Power Corporation, originally filed on December 28, 2004.

Comment Date: 5 p.m. eastern time on March 11, 2005.

7. Tampa Electric Company

[Docket No. ER05-602-000]

Take notice that on February 18, 2005, Tampa Electric Company (Tampa Electric) submitted tariff sheets for inclusion in its open access transmission tariff revising the Large Generator Interconnection Procedures and the Large Generator Interconnection Agreement in compliance with the Commission's Order No. 2003-B, Standardization of Generator Interconnection Agreements and Procedures, 109 FERC ¶ 61,287 (2004). Tampa Electric requests an effective date of January 19, 2005.

Tampa Electric states that copies of the filing have been served on the customers under Tampa Electric's open access transmission tariff and the Florida Public Service Commission.

Comment Date: 5 p.m. eastern time on March 11, 2005.

8. Entergy Service, Inc.

[Docket No. ER05-603-000]

Take notice that on February 18, 2005, Entergy Services, Inc. (Entergy) on behalf of Entergy Arkansas, Inc., Entergy Gulf States, Inc., Entergy Louisiana, Inc., Entergy Mississippi, Inc., and Entergy New Orleans, Inc., submitted tariff sheets reflecting the revisions to the pro forma Standard Large Generator Interconnection Procedures and the Standard Large Generator Interconnection Agreement set out in the Commission's Order No. 2003-B, Standardization of Generator Interconnection Agreements and Procedures, 109 FERC ¶ 61,287 (2004).

Comment Date: 5 p.m. eastern time on March 11, 2005.

9. Southwest Power Pool, Inc.

[Docket No. ER05-604-000]

Take notice that on February 18, 2005, Southwest Power Pool, Inc. (SPP) submitted tariff sheets to its open access transmission tariff incorporating the changes directed by the Commission in Order No. 2003-B, Standardization of Generator Interconnection Agreements and Procedures, 109 FERC ¶ 61,287 (2004). SPP requests an effective date of January 19, 2005.

SPP states that copies of the filing have been served on the parties on the official service list in Docket no. ER04-434-000, and on all SPP members, customers, and state commissions within the region. In addition, SPP states that the filing has been posted electronically on its Web site at http://www.spp.org and that it will provide hard copies upon request.

Comment Date: 5 p.m. eastern time on March 11, 2005.

10. PJM Interconnection, L.L.C.

[Docket No. ER05-605-000]

Take notice that on February 18, 2005, PJM Interconnection, L.L.C. (PJM) submitted for filing an executed interconnection service agreement and an executed construction service agreement among PJM, Pine Hurst Acres, and PPL Electric Utilities. PJM requests a January 20, 2005, effective date.

PJM states that copies of the filing were served on the parties to the agreements and the state regulatory commissions within the PJM region.

Comment Date: 5 p.m. eastern time on March 11, 2005.

11. Idaho Power Company

[Docket No. ER05-606-000]

Take notice that on February 18, 2005, Idaho Power Company submitted tariff sheets to its open access transmission tariff incorporating the changes directed by the Commission in Order No. 2003-B, Standardization of Generator Interconnection Agreements and Procedures, 109 FERC ¶ 61,287 (2004).

Comment Date: 5 p.m. eastern time on March 11, 2005.

12. Valley Electric Association, Inc.

[Docket No. ER05-607-000]

Take notice that on February 18, 2005, Valley Electric Association, Inc. submitted revised tariff sheets to its open access transmission tariff incorporating the changes directed by the Commission in Order No. 2003-B, Standardization of Generator Interconnection Agreements and Procedures, 109 FERC ¶ 61,287 (2004).

Comment Date: 5 p.m. eastern time on March 11, 2005.

13. Tuscon Electric Power Company and UNS Electric, Inc.

[Docket No. ER05-610-000]

Take notice that on February 18, 2005, Tuscon Electric Power Company and UNS Electric, Inc. submitted revised tariff sheets to its open access transmission tariff incorporating the changes directed by the Commission in Order No. 2003-B, Standardization of Generator Interconnection Agreements and Procedures, 109 FERC ¶ 61,287 (2004).

Comment Date: 5 p.m. eastern time on March 11, 2005.

14. Bridgeport Energy LLC

[Docket No. ER05-611-000]

Take notice that on February 18, 2005, Bridgeport Energy, LLC (Bridgeport) tendered for filing its proposed FERC Electric Tariff, Original Volume No. 2 and supporting costs data for Bridgeport's cost-of-service agreement with ISO-New England, Inc. (ISO-NE) in order to receive compensation for the provision of reliability services.

Bridgeport states that a copy of the filing has been served on ISO-NE.

Comment Date: 5 p.m. eastern time on March 11, 2005.

15. Southern California Edison Company

[Docket No. ER05-612-000]

Take notice that on February 18, 2005, Southern California Edison Company (SCE) submitted revised tariff sheets in compliance with the Commission's Order No. 2003-B, Standardization of Generator Interconnection Agreements and Procedures, 109 FERC ¶ 61,287 (2004).

SCE states that copies of the filing were served on the parties on the official service list for Docket No. ER04-435-000.

Comment Date: 5 p.m. eastern time on March 11, 2005.

16. Southern Company Services, Inc.

[Docket No. ER05-613-000]

Take notice that on February 18, 2005, Southern Company Services, Inc. on behalf of Alabama Power Company, Georgia Power Company, Gulf Power Company, Mississippi Power Company and Savannah Electric and Power Company (collectively Southern Companies) submitted revised tariff sheets in compliance with the Commission's Order No. 2003-B, Standardization of Generator Interconnection Agreements and Procedures, 109 FERC ¶ 61,287 (2004).

SCS states that this filing is posted on Southern Companies' OASIS for download by any person and that Southern Companies will provide copies of the filing upon request.

Comment Date: 5 p.m. eastern time on March 11, 2005.

17. El Paso Electric Company

[Docket No. ER05-614-000]

Take notice that on February 18, 2005, El Paso Electric Company (EPE) submitted revised tariff sheets in compliance with the Commission's Order No. 2003-B, Standardization of Generator Interconnection Agreements and Procedures, 109 FERC ¶ 61,287 (2004).

EPE states that copies of the filing were served on all persons on the service list for Docket No. ER04-448-000, the Public Utility Commission of Texas and the New Mexico Public Regulation Commission.

Comment Date: 5 p.m. eastern Time on March 11, 2005.

18. Southern California Edison Company

[Docket No. ER05-615-000]

Take notice that on February 18, 2005, Southern California Edison Company (SCE) tendered for filing revisions to the facilities charges under the interconnection facilities agreement, FERC Electric Tariff, First Revised Volume No. 5, Service Agreement No. 109 and service agreement for wholesale distribution service, FERC Electric Tariff, First Revised Volume No. 5, Service Agreement No. 110 between SCE and FPL Energy Green Power Wind LLC.

SCE states that copies of the filing were served on the Public Utilities Commission of the State of California and FPL Energy Green Power Wind LLC.

Comment Date: 5 p.m. eastern time on March 11, 2005.

19. Xcel Energy Services Inc.

[Docket No. ER05-616-000]

Take notice that on February 18, 2005, Xcel Energy Services Inc. submitted revised tariff sheets in compliance with the Commission's Order No. 2003-B, Standardization of Generator Interconnection Agreements and Procedures, 109 FERC ¶ 61,287 (2004).

Comment Date: 5 p.m. eastern time on March 11, 2005.

20. El Segundo Power, LLC

[Docket No. ER05-617-000]

Take notice that on February 18, 2005, El Segundo Power, LLC (El Segundo) tendered for filing an amendment to its Rate Schedule FERC No. 2, a reliability must-run agreement between El Segundo and the California Independent System Operator Corporation (CAISO). El Segundo requests an effective date of April 15, 2005.

El Segundo states that copies of the filing were served on CAISO, Southern California Edison Company, the California Electricity Oversight Board, and the California Public Utilities Commission.

Comment Date: 5 p.m. eastern time on March 11, 2005.

21. Midwest Independent Transmission System Operator, Inc.

[Docket No. ER05-618-000]

Take notice that on February 18, 2005, Midwest Independent Transmission System Operator, Inc. (Midwest ISO) submitted revised tariff sheets in compliance with the Commission's Order No. 2003-B, Standardization of Generator Interconnection Agreements and Procedures, 109 FERC ¶ 61,287 (2004).

The Midwest ISO states that it has electronically served a copy of this filing, with attachments, upon all Midwest ISO members, member representatives of transmission owners and non-transmission owners, the Midwest ISO Advisory Committee participants, as well as all state commissions within the regions. The Midwest ISO also states that the filing has been posted on Midwest ISO's Web site at http://www.midwestiso.org under the heading “Filings to FERC.”

Comment Date: 5 p.m. eastern time on March 11, 2005.

22. Black Hills Power, Inc.; Basin Electric Power Cooperative; Powder River Energy Corporation

[Docket No. ER05-619-000]

Take notice that on February 18, 2005, Black Hills Power, Inc. on behalf of itself, Basin Electric Power Cooperative, and Powder River Energy Corporation submitted revised tariff sheets in compliance with the Commission's Order No. 2003-B, Standardization of Generator Interconnection Agreements and Procedures, 109 FERC ¶ 61,287 (2004).

Comment Date: 5 p.m. eastern time on March 11, 2005.

23. Ohio Valley Electric Corporation

[Docket No. ER05-621-000]

Take notice that on February 18, 2005, Ohio Valley Electric Corporation (OVEC) submitted revised tariff sheets in compliance with the Commission's Order No. 2003-B, Standardization of Generator Interconnection Agreements and Procedures, 109 FERC ¶ 61,287 (2004).

OVEC states that a copy of the filing has been mailed to its jurisdictional customers and to each state public service commission that has retail jurisdiction over such customers.

Comment Date: 5 p.m. eastern time on March 11, 2005.

24. Carolina Power & Light Company, Florida Power Corporation

[Docket No. ER05-622-000]

Take notice that on February 18, 2005, Carolina Power & Light Company (CP&L) and Florida Power Corporation (FPC) submitted revised tariff sheets in compliance with the Commission's Order No. 2003-B, Standardization of Generator Interconnection Agreements and Procedures, 109 FERC ¶ 61,287 (2004).

CP&L and FPC state that a copy of the filing was served on their transmission customers, the North Carolina Utilities Commission, the Public Service Commission of South Carolina and the Florida Public Service Commission.

Comment Date: 5 p.m. eastern time on March 11, 2005.

25. Duke Energy Washington, LLC

[Docket No. ER05-623-000]

Take notice that on February 18, 2005, Duke Energy Washington, LLC (Duke Washington) tendered for filing proposed tariff and supporting cost data for its monthly revenue requirement for reactive supply and voltage control from generation sources service provided to PJM Interconnection, L.L.C.(PJM). Duke Washington requests an effective date of March 1, 2005.

Duke Washington states that it has served a copy of the filing on PJM.

Comment Date: 5 p.m. eastern time on March 11, 2005.

26. PJM Interconnection, L.L.C.

[Docket No. ER05-626-000]

Take notice that on February 18, 2005, PJM Interconnection, L.L.C. (PJM) submitted revised tariff sheets in compliance with the Commission's Order No. 2003-B, Standardization of Generator Interconnection Agreements and Procedures, 109 FERC ¶ 61,287 (2004). PJM states that the revisions have an effective date of February 18, 2005.

PJM states that copies of the filing have been served on all PJM members and the utility regulatory commissions in the PJM region.

Comment Date: 5 p.m. eastern time on March 11, 2005.

27. FPL Energy Oklahoma Wind, LLC

[Docket No. ER05-628-000]

Take notice that on February 18, 2005, FPL Energy Oklahoma Wind, LLC (Oklahoma Wind) submitted a shared facilities agreement between Oklahoma Wind and FPL Energy Sooner Wind, LLC designated as Rate Schedule FERC No. 1. Oklahoma Wind requests an effective date of September 26, 2003.

Oklahoma Wind states that copies of the filing were served on Oklahoma Wind's jurisdiction customer and the Oklahoma Corporation Commission.

Comment Date: 5 p.m. eastern time on March 11, 2005.

28. New York Independent System Operator, Inc.

[Docket No. ER05-629-000]

Take notice that on February 18, 2005, the New York Independent System Operator, Inc. (NYISO) and the New York Transmission Owners filed a joint compliance filing pursuant to the Commission's Order No. 2003-B, Standardization of Generator Interconnection Agreements and Procedures, 109 FERC ¶ 61,287 (2004).

The NYISO states that copies of the filing have been served on the parties in Docket No. ER04-449-000 and has been electronically served on the official representatives of each of its customers, each participant in its stakeholder committees, on the New York State Pubic Commission and on the electric utility regulatory agencies in New Jersey and Pennsylvania.

Comment Date: 5 p.m. eastern time on March 11, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-836 Filed 3-2-05; 8:45 am]

BILLING CODE 6717-01-P